DEPARTMENT OF THE INTERIOR

Bureau of Land Management

[NV-025-1232-EA; Special Recreation Permit #NV-025-03-07]

Notice of Temporary Closures of Public Lands; Pershing, Washoe, and Humboldt Counties, NV

AGENCY: Bureau of Land Management, Winnemucca Field Office, Nevada.

ACTION: Notice to the public of a closure on public lands administered by the Bureau of Land Management, Winnemucca Field Office, Nevada.

SUMMARY: Notice is hereby given that certain lands in and around the Civilian Space Exploration Team (CSXT) rocket launch site, located in Pershing, Washoe and Humboldt counties, Nevada, would be temporarily closed for public use from 0900 to 1200 hours, September 15th through the 18th 2003 and October 14th through the 17th 2003. These in the interest of public safety at and around the location of a high-altitude rocket launch site. These events are expected to involve approximately 50 participants. Affected lands are located in the Black Rock Desert—High Rock Canyon Emigrant Trails National Conservation Area, situated northeast of Gerlach, Nevada, in the Mount Diablo Meridian.

The following Public Lands are Closed to public use: Public land areas north of the Union Pacific Railroad tracks and east of State Road 34 and County Road 200, and west of the Pahute Peak and Black Rock Desert Wilderness boundaries, as described below:

T33 ½ N, R24E Sections 25-28, 32-36, T33N R24E Sections 1-5, 8-22, 23, 27-30; T33N, R25E Sections 2, 3, 4, 9; T34N, R24E Sections 1-3, 10-15, 21-27, 34-36; T34N, R25E Sections 1-4, 9-16, 21-28, 33-36; T34N, R26E Sections 1-24, 28-33; T34N, R27E Sections 1-18; T35.5N, R25E Sections 27-34; T35.5N, R26E Sections 25-36; T35N, R24E Sections 6, 13, 22-27, 34-36; T35N, R25E Sections 1-4, 9-16, 21-28, 33-36; All of T35N, R26E; All of T35N R27E; T36N R23.5E Section 1; T36N, R24E Sections 5, 6, 8, 17, 30; T36N, R25E Sections 1-5, 8-18, 21-36; All of T36N, R26E; T36N, R27E Sections 4-9, 16-21, 28-33; T37N, R23 ½ E Section 36; T37N, R24E Sections 11, 14, 23, 23, 30; T37N, R25E Sections 7, 22-27, 34-36; T37N, R26E Sections 19-36; T37N, R27E Sections 19-21, 28-33; T38N, R23E Section 22.

To ensure public safety, these lands would be closed to public use from 0900-1200 hours during the CSXT permit period, under the authority of 43 CFR 8364.1, BLM personnel, law enforcement, emergency medical services, and CSXT staff as designated by the BLM authorized officer would be exempted from the closure. Spectators or other area users who are inconvenienced by the closure could be escorted to the launch site. A map showing these temporary closures, restrictions and prohibitions is available from the following BLM office: BLM-Winnemucca Field Office, 5100 East Winnemucca Blvd., Winnemucca, Nevada 89445-2921.

The map may also be viewed on the Winnemucca Field Office Web site at: http://www.nv.blm.gov/winnemucca.

DATES: Closure to public use could occur from 0900-1200 hours, September 15th through the 18th 2003, and October 14th through the 17th 2003.

FOR FURTHER INFORMATION CONTACT: Dave Lefevre, Outdoor Recreation Planner, Bureau of Land Management, Winnemucca Field Office, 5100 E. Winnemucca Blvd., Winnemucca, NV 89445, telephone (775) 623-1500.

Authority: 43 CFR 8364.1.

Penalty: Any person failing to comply with the closure orders may be subject to imprisonment for not more than 12 months, or a fine in accordance with the applicable provisions of 18 U.S.C. 3571, or both.

Terry A. Reed,
Field Manager.

[FR Doc. 03-20463 Filed 8-11-03; 8:45 am]

BILLING CODE 4310-HC-P